DEPARTMENT OF ENERGY

Federal Energy Regulatory Commission

[Project No. 2323-226]

Great River Hydro, LLC; Notice of Application Accepted for Filing and Soliciting Comments, Motions To Intervene, and Protests

Take notice that the following hydroelectric application has been filed with the Commission and is available for public inspection.

a. Type of Application: Non-capacity amendment of license.

b. Project No.: 2323-226.

c. Date Filed: January 4, 2019, and supplemented February 22, 2019 and April 17, 2019.

d. Applicant: Great River Hydro, LLC.

e. Name of Project: Deerfield River Hydroelectric Project.

f. Location: The project is located on the Deerfield River in Berkshire and Franklin counties, Massachusetts, and Bennington and Windham counties Vermont.

g. Filed Pursuant to: Federal Power Act, 16 U.S.C. 791 (a)-825(r).

h. Applicant Contact: Mr. John Ragonese, FERC License Manager, Great River Hydro, LLC, One Harbour Place, Suite 330, Portsmouth, NH 03801, (603) 498-2851.

i. FERC Contact: Steven Sachs, (202) 502-8666, Steven.Sachs@ferc.gov.

j. Deadline for filing comments, motions to intervene, and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2323-226.

k. Description of Request: The applicant proposes to install a 230-kilowatt turbine-generator unit within the existing minimum flow release pipe at the No. 5 development of its Deerfield River Hydroelectric Project. The new unit would have a maximum hydraulic capacity of 87 cubic feet per second and produce approximately 1,269 megawatt-hours annually.

l. Locations of the Applications: A copy of the application is available for inspection and reproduction at the Commission's Public Reference Room, located at 888 First Street NE, Room 2A, Washington, DC 20426, or by calling (202) 502-8371. The filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502- 8659. Agencies may obtain copies of the application directly from the applicant.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

p. Waiver of Pre-filing Consultation: Based on a review of the application, resource agency consultation letters, and comments filed to date, we accept the consultation that has occurred on this project as satisfying our requirements for the standard 3-stage consultation process under 18 CFR 4.38, and are waiving the requirement to conduct second stage consultation pursuant to section 4.38(c)(4) of the Commission's regulations, as requested by the applicant.

Dated: April 25, 2019.
Kimberly D. Bose,
Secretary.

[FR Doc. 2019-08790 Filed 4-30-19; 8:45 am]

BILLING CODE 6717-01-P